DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is updating the identifying information on its Specially Designated Nationals and Blocked Persons List (SDN List) for one entity whose property and interests in property subject to U.S. jurisdiction are blocked pursuant to Executive Order 13224.

DATES: See Supplementary Information section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action

On October 17, 2022, OFAC published the following revised information for the entry on the SDN List for the following entity, whose property and interests in property are blocked pursuant to Executive Order 13224 of September 23, 2001, “Blocking Property and Prohibiting Transactions With Persons Who Commit, Threaten To Commit, or Support Terrorism.”

Entity

1. GRUPO AROSFRAN EMPREENDIMENTOS E PARTICIPACOES SARL (a.k.a. AROSFRAN; a.k.a. GRUPO AROSFRAM; a.k.a. GRUPO AROSFRAN), 1st Floor, Avenida Comandante Valodia, No. 65, Luanda, Angola; Rua Clube Maritimo Africano, No 22 r/c, Luanda, Angola; Rua Comandante de Volodia, No 67, Premiero Andar, Luanda, Angola; Avenida Comandante de Valodia, No. 0.67, 1 Andar, Luanda, Angola; Rua General Rocadas 5, Luanda, Angola; website www.grupoarosfran.net [SDGT].

Dated: October 17, 2022.
Andrea M. Gacki,
Director, Office of Foreign Assets Control, U.S. Department of the Treasury.

[FR Doc. 2022-22811 Filed 10-19-22; 8:45 am]

BILLING CODE 4810-AL-P